DEPARTMENT OF HOMELAND SECURITY

Federal Emergency Management Agency

[FEMA-1479-DR]

Texas; Amendment No. 3 to Notice of a Major Disaster Declaration

AGENCY: Federal Emergency Management Agency, Emergency Preparedness and Response Directorate, Department of Homeland Security.

ACTION: Notice.

SUMMARY: This notice amends the notice of a major disaster declaration for the State of Texas (FEMA-1479-DR), dated July 17, 2003, and related determinations.

EFFECTIVE DATE: July 28, 2003.

FOR FURTHER INFORMATION CONTACT: Magda Ruiz, Recovery Division, Federal Emergency Management Agency, Washington, DC 20472, (202) 646-2705.

SUPPLEMENTARY INFORMATION: The notice of a major disaster declaration for the State of Texas is hereby amended to include the following areas among those areas determined to have been adversely affected by the catastrophe declared a major disaster by the President in his declaration of July 17, 2003:

Atascosa and McMullen Counties for Public Assistance.

DeWitt, Frio, Karnes, Live Oak, and San Patricio Counties for Individual Assistance and Public Assistance.

Bee, Brazoria, Galveston, and Goliad Counties for Public Assistance (already designated for Individual Assistance.)

Calhoun, Jackson, Matagorda, Refugio, and Victoria Counties for Category A and Categories C through G under the Public Assistance Program (already designated for Category B under the Public Assistance program and Individual Assistance.)

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560, Individual and Household Program-Other Needs; 83.544, Public Assistance Grants; 83.548, Hazard Mitigation Grant Program.)

Michael D. Brown,
Under Secretary, Emergency Preparedness and Response.

[FR Doc. 03-19712 Filed 8-1-03; 8:45 am]

BILLING CODE 6718-02-P